ENVIRONMENTAL PROTECTION AGENCY

[FRL-7843-5]

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

OMB Approvals

EPA ICR No. 1710.04; Residential Lead-Based Paint Hazardous Disclosure Requirements; in 40 CFR part 745, subpart F and 24 CFR part 35, subpart H; was approved 11/05/2004; OMB Number 2070-0151; expires 11/30/2007.

EPA ICR No. 2143.01; ECOS Survey of State Performance Measures; was approved 10/29/2004; OMB Number 2020-0028; expires 11/30/2005.

EPA ICR No. 1713.05; Federal Operating Permit Regulations; in 40 CFR part 71; was approved 11/01/2004; OMB Number 2060-0336; expires 03/31/2007.

EPA ICR No. 1587.06; State Operating Permits Regulations; in 40 CFR part 70; was approved 11/01/2004; OMB Number 2060-0243; expires 03/31/2007.

EPA ICR No. 1198.07; Chemical-Specific Rules, Toxic Substances Control Act Section 8(a); in 40 CFR part 704; was approved 10/20/2004; OMB Number 2070-0067; expires 10/31/2007.

EPA ICR No. 1572.06; Hazardous Waste Specific Unit Requirements and Special Waste Processes and Types; in 40 CFR part 261; 40 CFR part 264; 40 CFR part 265; 40 CFR part 266; was approved 10/14/2004; OMB Number 2050-0050; expires 10/31/2007.

EPA ICR No. 1693.03; Plant-Incorporated Protectants; CBI Substantiation and Adverse Effects Reporting; in 40 CFR part 174; was approved 10/07/2004; OMB Number 2070-0142; expires 10/31/2007.

EPA ICR No. 1591.15; Regulation of Fuel and Fuel Additives; in 40 CFR part 80, subparts D, E, and F; was approved 10/12/2004; OMB Number 2060-0277; expires 10/31/2007.

EPA ICR No. 1764.03; National Volatile Organic Compound Emission Standards for Consumer Products; in 40 CFR part 59, subpart C; was approved 10/06/2004; OMB Number 2060-0348; expires 10/31/2007.

EPA ICR No. 1049.10; Notification of Episodic Releases of Oil and Hazardous Substances; in 40 CFR parts 110, 117 and 302; was approved 10/05/2004; OMB Number 2050-0046; expires 10/31/2007.

EPA ICR No. 1136.07; NSPS for VOC Emissions From Petroleum Refinery Wastewater Systems; in 40 CFR part 60, subpart QQQ; was approved 10/05/2004; OMB Number 2060-0172; expires 10/31/2007.

EPA ICR No. 1246.09; Reporting and Recordkeeping Requirements for Asbestos Abatement Worker Protection; in 40 CFR part 763, subpart G; was approved 10/05/2004; OMB Number 2070-0072; expires 10/31/2007.

EPA ICR No. 1949.03; Implementation of Incentives Designed for EPA's National Environmental Performance Track Program; was approved 11/12/2004; OMB Number 2010-0032; expires 08/31/2006.

EPA ICR No. 1748.04; Annual Reporting form for State Small Business Stationary Source Technical and Environmental Compliance Assistance Program (SBTCP); was approved 11/09/2004; OMB Number 2060-0337; expires 11/30/2007.

EPA ICR No. 1564.06; NSPS for Small Industrial-Commercial-Institutional Steam Generating Units ; in 40 CFR part 60, subpart Dc; was approved 11/09/2004; OMB Number 2060-0202; expires 11/30/2007.

Short Term Extensions

EPA ICR No. 1726.03; Marine Engine Manufacturer In-use Emission Testing Program Reporting and Recordkeeping, in 40 CFR part 91, subpart N; OMB Number 2060-0322; on 10/28/2004 OMB extended the expiration date to 01/31/2005.

EPA ICR No. 1897.04; Information Requirements for Marine Diesel Engines (nonroad Large SI Engines and Marine Diesel Engines) (Amendments) (Final Rule); in 40 CFR part 94, 40 CFR part 1048; OMB Number 2060-0460; on 10/28/2004 OMB extended the expiration date to 01/31/2005.

EPA ICR No. 1680.03; Information Collection Request for the Combined Sewer Overflow Policy; OMB Number 2040-0170; on 10/27/2004 OMB extended the expiration date to 01/31/2005.

EPA ICR No. 2018.01; Pollution Prevention Compliance Alternative; Transportation Equipment Cleaning (TEC) Point Source Category; in 40 CFR part 442; OMB Number 2040-0235; on 10/26/2004 OMB extended the expiration date to 01/31/2005.

EPA ICR No. 1139.06; TSCA Section 4 Test Rules, Consent Orders, Test Rule Exemptions, and Voluntary Data Submission; OMB Number 2070-0033 on 10/27/2004 OMB extended the expiration date to 01/31/2005.

EPA ICR No. 2052.01; Information Collection Request for Long Term 1 Enhanced Surface Water Treatment Rule (Final Rule); OMB Number 2040-0229; on 10/26/2004 OMB extended the expiration date to 01/31/2005.

EPA ICR No. 0586.09; TSCA Section 8(a) Preliminary Assessment Information Rule (PAIR); OMB Number 2070-0054 on 10/27/2004 OMB extended the expiration date to 01/31/2005.

Withdrawn and Continued

EPA ICR No. 1230.14; Prevention of Significant Deterioration and Non-Attainment Area New Source Review (The Establishment of a Definition for Equipment Replacement for the New Source Review Program); OMB No. 2060-0003; was withdrawn on 10/05/2004.

Dated: November 16, 2004.
Oscar Morales,
Director, Collection Strategies Division.

[FR Doc. 04-26399 Filed 11-29-04; 8:45 am]

BILLING CODE 6560-50-P